DEPARTMENT OF TRANSPORTATION

Federal Aviation Administration

14 CFR Part 71

[Docket No. FAA-2022-1399; Airspace Docket No. 22-AGL-22]

RIN 2120-AA66

Amendment of VOR Federal Airways V-126, V-156, V-233, and V-422, and Revocation of V-340 and V-371 in the Vicinity of Knox, IN

AGENCY: Federal Aviation Administration (FAA), DOT.

ACTION: Final rule.

SUMMARY: This action amends Very High Frequency (VHF) Omnidirectional Range (VOR) Federal airways V-126, V-156, V-233, and V-422, and revokes VOR Federal airways V-340 and V-371. The FAA is taking this action due to the planned decommissioning of the VOR portion of the Knox, IN (OXI), VOR/Distance Measuring Equipment (VOR/DME) navigational aid (NAVAID). The Knox VOR is being decommissioned in support of the FAA's VOR Minimum Operational Network (MON) program.

DATES: Effective date 0901 UTC, June 15, 2023. The Director of the Federal Register approves this incorporation by reference action under 1 CFR part 51, subject to the annual revision of FAA Order JO 7400.11 and publication of conforming amendments.

ADDRESSES: A copy of the NPRM, all comments received, this final rule, and all background material may be viewed online at www.regulations.gov using the FAA Docket number. Electronic retrieval help and guidelines are available on the website. It is available 24 hours each day, 365 days each year.

FAA Order JO 7400.11G, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as modifies the ATS route structure as necessary to preserve the safe and efficient flow of air traffic within the National Airspace System.

History

The FAA published a notice of proposed rulemaking for Docket No. FAA-2022-1399 in the Federal Register (87 FR 72426, November 25, 2022), amending VOR Federal airways V-126, V-156, V-233, and V-422, and revoking VOR Federal airways V-340 and V-371 due to the planned decommissioning of the VOR portion of the Knox, IN, VOR/DME NAVAID. Interested parties were invited to participate in this rulemaking effort by submitting written comments on the proposal. No comments were received.

Differences From the NPRM

Subsequent to the NPRM, the FAA published a rule for Docket No. FAA-2022-1107 in the Federal Register (88 FR 4081, January 24, 2023), amending VOR Federal airway V-156 by removing the airway segment between the Gipper, MI, VOR/Tactical Air Navigation (VORTAC) and the Kalamazoo, MI, VOR/DME. That airway amendment, effective April 20, 2023, is included in this rule.

Additionally, subsequent to the NPRM, the FAA published a rule for Docket No. FAA-2022-1113 in the Federal Register (88 FR 2504 January 17, 2023), amending VOR Federal airway V-233 by removing the airway segment between the Goshen, IN, VORTAC and the Litchfield, MI, VOR/DME. That airway amendment, effective April 20, 2023, is included in this rule.

Incorporation by Reference

VOR Federal airways are published in paragraph 6010(a) of FAA Order JO 7400.11, Airspace Designations and Reporting Points, which is incorporated by reference in 14 CFR 71.1 on an annual basis. This document amends the current version of that order, FAA Order JO 7400.11G, dated August 19, 2022, and effective September 15, 2022. FAA Order JO 7400.11G is publicly available as listed in the ADDRESSES section of this document. These amendments will be published in the next update to FAA Order JO 7400.11.

FAA Order JO 7400.11G lists Class A, B, C, D, and E airspace areas, air traffic service routes, and reporting points.

The Rule

This action amends 14 CFR part 71 by amending VOR Federal airways V-126, V-156, V-233, and V-422, and revoking VOR Federal airways V-340 and V-371 due to the planned decommissioning of the VOR portion of the Knox, IN, VOR/DME. The VOR Federal airway actions are described below.

V-126: V-126 extends between the intersection of the Peotone, IL, VORTAC 053° and Knox, IN, VOR/DME 297° radials (BEARZ Fix) and the intersection of the Goshen, IN, VORTAC 092° and Fort Wayne, IN, VORTAC 016° radials (ILTON Fix). The airway segment between the BEARZ Fix and the Goshen, IN, VORTAC is removed. As amended, the airway extends between the Goshen VORTAC and the intersection of the Goshen VORTAC 092° and the Fort Wayne VORTAC 016° radials (ILTON Fix).

V-156: V-156 extends between the Cedar Rapids, IA, VOR/DME and the Gipper, MI, VORTAC. The airway segment between the Peotone, IL, VORTAC and the Gipper, MI, VORTAC is removed. As amended, the airway extends between the Cedar Rapids VOR/DME and the Peotone VORTAC.

V-233: V-233 extends between the Spinner, IL, VORTAC and the Goshen, IN, VORTAC; and between the Mount Pleasant, MI, VOR/DME and the Pellston, MI, VORTAC. The airway segment between the Roberts, IL, VOR/DME and the Goshen, IN, VORTAC is removed. As amended, the airway extends between the Spinner VORTAC and the Roberts VOR/DME and between the Mount Pleasant VOR/DME and the Pellston VORTAC.

V-340: V-340 extends between the intersection of the Peotone, IL, VORTAC 053° and Knox, IN, VOR/DME 297° radials (BEARZ Fix) and the Fort Wayne, IN, VORTAC. The airway is removed in its entirety.

V-371: V-371 extends between the Boiler, IN, VORTAC and the Knox, IN, VOR/DME. The airway is removed in its entirety.

V-422: V-422 extends between the intersection of the DuPage, IL, VOR/DME 101° and Chicago Heights, IL, VORTAC 358° radials (NILES Fix) and the Flag City, OH, VORTAC. The airway segment between the NILES Fix and the Webster Lake, IN, VOR is removed. As amended, the airway extends between the Webster Lake VOR and the Flag City VORTAC.

The NAVAID radials listed in the VOR Federal airway descriptions below are unchanged and stated in degrees True north.

Regulatory Notices and Analyses

The FAA has determined that this regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of amending VOR Federal airways V-126, V-156, V-233, and V-422, and revoking VOR Federal airways V-340 and V-371, due to the planned decommissioning of the VOR portion of the Knox, IN, VOR/DME NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points); and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal Airways.

* * * * *

V-126 [Amended]

From Goshen, IN; to INT Goshen 092° and Fort Wayne, IN, 016° radials.

* * * * *

V-156 [Amended]

From Cedar Rapids, IA; Moline, IL; Bradford, IL; to Peotone, IL.

* * * * *

V-233 [Amended]

From Spinner, IL; INT Spinner 061° and Roberts, IL, 233° radials; to Roberts. From Mount Pleasant, MI; INT Mount Pleasant 351° and Gaylord, MI, 207° radials; Gaylord; to Pellston, MI.

* * * * *

V-340 [Removed]

* * * * *

V-371 [Removed]

* * * * *

V-422 [Amended]

From Webster Lake, IN; INT Webster Lake 097° and Flag City, OH, 289° radials; to Flag City.

* * * * *

Issued in Washington, DC, on March 20, 2023.
Brian Konie,
Acting Manager, Airspace Rules and Regulations.

[FR Doc. 2023-06104 Filed 3-24-23; 8:45 am]

BILLING CODE 4910-13-P